DEPARTMENT OF THE INTERIOR

Fish and Wildlife Service

[FWS-HQ-ES-2019-N002; FXES11130100000C4-190-FF02ENEH00]

Endangered and Threatened Wildlife and Plants; 29 Draft Recovery Plan Revisions for 43 Species in the Pacific, Southwest, and Southeast Regions of the United States

AGENCY: Fish and Wildlife Service, Interior.

ACTION: Notice of availability; opening of public comment period.

SUMMARY: We, the U.S. Fish and Wildlife Service (Service), announce the availability for public review and comment of 29 draft recovery plan revisions, which update recovery criteria for 43 endangered or threatened species located in 16 States (Alabama, Arizona, Arkansas, California, Florida, Georgia, Idaho, Mississippi, Missouri, Montana, New Mexico, North Carolina, Oregon, South Carolina, Tennessee, and Texas), two unincorporated territories (the Commonwealth of Puerto Rico and the U.S. Virgin Islands), Canada, Cuba, the Dominican Republic, the French West Indies, and Mexico. We are updating recovery criteria to better assist in determining when an endangered species has recovered to the point that it may be reclassified as threatened, or that the protections afforded by the Endangered Species Act of 1973, as amended (Act), are no longer necessary and the species may be removed from the Act's protections. We request review of these draft recovery plan revisions and invite comments from local, State, Tribal, and Federal agencies, nongovernmental organizations, and the public.

DATES: We must receive comments on the draft recovery plan revisions on or before July 29, 2019.

ADDRESSES:

Reviewing documents: If you wish to review these draft recovery plan revisions, you may obtain copies from the website addresses listed in the table in SUPPLEMENTARY INFORMATION. You may also request copies of the draft recovery plan revisions by contacting the individuals listed in the table.

Submitting comments: If you wish to comment, see the table in SUPPLEMENTARY INFORMATION and submit your comments by one of the following methods:

1. U.S. Mail or hand-delivery: You may submit written comments and materials to the appropriate field office mailing address for the species in which you are interested;

2. Email: You may send comments by email to the identified contact person's email address in the table, for each species. Please include “Draft Recovery Plan Revision Comments” in the subject line.

FOR FURTHER INFORMATION CONTACT: For information on a particular species, contact the appropriate person listed in the table for that species in SUPPLEMENTARY INFORMATION. Individuals who are hearing impaired may call the Federal Relay Service at 800-877-8339 for TTY assistance.

SUPPLEMENTARY INFORMATION:

Background

In this notice, we announce for public review and comment the availability of 29 draft recovery plan revisions, which update recovery criteria for 43 endangered or threatened species located in 16 States (Alabama, Arizona, Arkansas, California, Florida, Georgia, Idaho, Mississippi, Missouri, Montana, New Mexico, North Carolina, Oregon, South Carolina, Tennessee, and Texas), two unincorporated territories (the Commonwealth of Puerto Rico and the U.S. Virgin Islands), Canada, Cuba, the Dominican Republic, the French West Indies, and Mexico. This group of 29 draft recovery plan revisions is part of a larger effort underway to revise up to 182 recovery plans covering up to 305 species in order to achieve the following Department of the Interior Agency Priority Performance Goal outlined in the Department's Strategic Plan for Fiscal Years 2018-2022: “By September 30, 2019, 100 percent of all Fish and Wildlife Service recovery plans will have quantitative criteria for what constitutes a recovered species.”

The purpose of a recovery plan is to provide a roadmap for a species' recovery, with the goal of improving its status and managing its threats to the point at which protections under the Act are no longer needed. Recovery plans must be designed so that all stakeholders and the public understand the rationale behind the recovery program, whether they were involved in writing the plan or not, and recognize their role in its implementation. We are requesting submission of any information that may help achieve (1) the necessary understanding of species' biology, threats, and recovery needs; (2) identification of implementation issues and concerns; and (3) facilitation of more effective implementation associated with these draft revisions that revise recovery criteria for these 43 species.

Recovery plans provide important guidance to the Service, States, other partners, and the general public on methods of minimizing threats to listed species and objectives against which to measure the progress towards recovery; they are guidance and not regulatory documents. A recovery plan identifies, organizes, and prioritizes recovery actions and is an important guide that ensures sound scientific decision-making throughout the recovery process, which can take decades. Keeping recovery plans current will ensure that the species benefits through timely, partner-coordinated implementation, based on the best available information. A review of a recovery plan and its implementation, however, may show that a recovery plan is out of date or its usefulness is limited and that, therefore, the recovery plan warrants modification.

The need for, and extent of, recovery plan modifications will vary considerably among recovery plans, depending on the scope and complexity of the initial plan, the structure of the document, and the involvement of stakeholders. The need for a recovery plan revision may be triggered when, among other possibilities: (1) New information has been identified such as population-level threats to the species, or previously unknown life-history traits, which necessitates new or revised recovery strategy, actions, or criteria, or revision of all three in order to maintain the adequacy of the plan; and (2) the current plan is not achieving its objectives. An amendment, a type of recovery plan revision, is more limited in scope than a full revision of the recovery plan and modifies an existing plan, rather than replacing the entire existing recovery plan. Revisions benefit endangered and threatened species, our partners, and the public by incorporating the best available information on what is really needed for species' recovery. Twenty-eight of the 29 proposed recovery plan revisions noticed in this announcement are modified with amendments that replace only a portion of those plans, while one recovery plan (Draft Revised Recovery Plan for the Kootenai River Distinct Population Segment of the White Sturgeon) is a full revision and will completely replace the existing plan.

Revision of recovery plans requires public notice and comment under section 4(f)(4) of the Act, including: (1) A Federal Register notice of availability to give opportunity for public review and comment; (2) consideration of all information presented during the public comment period; and (3) approval by the Regional Director. When finalized, these recovery plan revisions will be made publicly available on the internet through our Environmental Conservation Online System (ECOS, https://ecos.fws.gov).

What plans are being made available for public review and comment?

This notice announces our draft recovery plan revisions for the species listed in the table below.

Common name | Scientific name | Listing status ¹ | Current range | Recovery plan name | Internet availability of proposed recovery plan revision | Contact person, phone, email | Contact person's U.S. mail address
Pacific Region (Idaho, Oregon, Washington, Hawaii, and the Pacific Islands)
White sturgeon [Kootenai River DPS] | Acipenser transmontanus | E | ID, MT, Canada (B.C.) | Draft Revised Recovery Plan for the Kootenai River Distinct Population Segment of the White Sturgeon ² | https://ecos.fws.gov/docs/recovery_plan/Kootenai_River_White_Sturgeon_Draft_Revised_RP_20181211a.pdf | Gregory M. Hughes, 208-237-6975, greg_m_hughes@fws.gov | Idaho Fish and Wildlife Office, 1387 S Vinnell Way, Suite 368, Boise, ID 83709.
Hutton tui chub | Gila bicolor ssp. | T | OR | Recovery Plan for the Threatened and Rare Native Fishes of the Warner Basin and Alkali Subbasin ³ | https://ecos.fws.gov/docs/recovery_plan/Hutton%20tui%20chub%20Draft%20Recovery%20Plan%20Amendment%2020181211a.pdf | Paul Henson, Ph.D., 503-231-6179, paul_henson@fws.gov | Oregon Fish and Wildlife Office, 2600 SE 98th Avenue, Suite 100, Portland, OR 97266.
Southwest Region (Arizona, New Mexico, Oklahoma, and Texas)
Arizona cliffrose | Purshia subintegra | E | AZ | Arizona Cliffrose (Purshia subintegra) Recovery Plan ³ | https://ecos.fws.gov/docs/recovery_plan/Draft%20AZ%20Cliffrose%20RP%20Amendment.pdf | Field Supervisor, 602-242-0210, AZcriteria@fws.gov | Arizona Ecological Services Field Office, 9828 North 31st Avenue #C3, Phoenix, AZ 85051.
Desert pupfish | Cyprinodon macularius | E | AZ, CA, Mexico (Son.) | Desert Pupfish Recovery Plan ³ | https://ecos.fws.gov/docs/recovery_plan/Draft%20Desert%20Pupfish%20RP%20Amendment.pdf | Julie McIntyre, 520-670-6150, julie_mcintyre@fws.gov | Arizona Ecological Services Field Office, Tucson Sub-Office, 201 N Bonita Avenue, Suite 141, Tucson, AZ 85745.
Mexican long-nosed bat | Leptonycteris nivalis | E | NM, TX, Mexico (Coah., Hgo., Mor., N.L., and Son.) | Mexican Long-nosed Bat (Leptonycteris nivalis) Recovery Plan ³ | https://ecos.fws.gov/docs/recovery_plan/Draft%20MX%20long-nosed%20bat%20RP%20Amendment.pdf | Adam Zerrenner, 512-490-0057, x248, adam_zerrenner@fws.gov | Austin Ecological Services Field Office, 10711 Burnet Road, Suite 200, Austin, TX 78758.
Nellie's cory cactus | Coryphantha minima | E | TX | Nellie's Cory Cactus (Coryphantha minima) Recovery Plan ³ | https://ecos.fws.gov/docs/recovery_plan/Draft%20Nellies%20Cory%20Cactus%20RP%20Amendment.pdf
Davis's green pitaya | Echinocereus viridiflorus var. davisii | E | TX | Davis' Green Pitaya Cactus (Echinocereus viridiflorus var. davisii) ³ | https://ecos.fws.gov/docs/recovery_plan/Draft%20Davis%20Green%20Pitaya%20RP%20Amendment.pdf
Little Aguja pondweed | Potamogeton clystocarpus | E | TX | Little Aguja Pondweed Recovery Plan (Potamogeton clystocarpus) ³ | https://ecos.fws.gov/docs/recovery_plan/Draft%20Little%20Aguja%20Pondweed%20RP%20Amendment.pdf
Yaqui chub | Gila purpurea | E | AZ, Mexico (Son.) | Fishes of the Rio Yaqui Recovery Plan ³ | https://ecos.fws.gov/docs/recovery_plan/Draft%20Yaqui%20Chub%20RP%20Amendment_1.pdf | Bill Radke, 520-364-2104, bill_radke@fws.gov | San Bernardino National Wildlife Refuge, P.O. Box 3509, Douglas, AZ 85607.
Navasota ladies'-tresses | Spiranthes parksii | E | TX | Navasota Ladies'-Tresses (Spiranthes parksii) Recovery Plan ³ | https://ecos.fws.gov/docs/recovery_plan/Draft%20Navasota%20Ladies-tresses%20RP%20Amendment.pdf | Chuck Ardizzone, 281-286-8282, chuck_ardizzone@fws.gov | Texas Coastal Ecological Services Field Office, 17629 El Camino Real, Suite 211, Houston, TX 77058.
Texas trailing phlox | Phlox nivalis ssp. texensis | E | TX | Texas Trailing Phlox (Phlox nivalis ssp. texensis) Recovery Plan ³ | https://ecos.fws.gov/docs/recovery_plan/Draft%20TX%20Trailing%20Phlox%20RP%20Amendment.pdf
Southeast Region (Alabama, Arkansas, Florida, Georgia, Kentucky, Louisiana, Mississippi, North Carolina, South Carolina, Tennessee, Puerto Rico, and the U.S. Virgin Islands)
Alabama cave shrimp | Palaemonias alabamae | E | AL | Alabama Cave Shrimp (Palaemonias alabamae) Recovery Plan ³ | https://ecos.fws.gov/docs/recovery_plan/Alabama%20Cave%20Shrimp_Recovery%20Plan%20Amendement.pdf | William J. Pearson, 251-441-5870, bill_pearson@fws.gov | Alabama Ecological Services Field Office, U.S. Fish and Wildlife Service, 1208-B Main Street, Daphne, AL 36526.
Finelined pocket book | Lampsilis altilis | T | AL, GA, TN | Recovery Plan for Mobile River Basin Aquatic Ecosystem ³ | https://ecos.fws.gov/docs/recovery_plan/FinelinedPocketbook_Recovery%20Plan%20Amendment.pdf
Coosa moccasinshell Southern pigtoe | Medionidus parvulus Pleurobema georgianum | E E | AL, GA, TN AL, GA, TN |  | https://ecos.fws.gov/docs/recovery_plan/Coosa%20moccasinshell%20and%20Southern%20pigtoe%20Recovery%20Plan%20Amendment.pdf
Southern clubshell | Pleurobema decisum | E | AL, GA, MS, TN |  | https://ecos.fws.gov/docs/recovery_plan/Southern_Clubshell%20Recovery%20Plan%20Amendment.pdf
Ovate clubshell | Pleurobema perovatum | E | AL, GA, MS, TN |  | https://ecos.fws.gov/docs/recovery_plan/Ovate_Clubshell_Recovery%20Plan%20Amendment.pdf
Georgia pigtoe | Pleurobema hanleyianum | E | AL, GA, TN | Recovery Plan for Georgia pigtoe mussel (Pleurobema hanleyianum), Interrupted rocksnail (Leptoxis foremani), and Rough hornsnail (Pleurocera foremani) ³ | https://ecos.fws.gov/docs/recovery_plan/Georgia%20pigtoe%20Recovery%20Plan%20Amendment%20(1).pdf
Rough hornsnail | Pleurocera foremani | E | AL |  | https://ecos.fws.gov/docs/recovery_plan/Rough%20hornsnail%20Recovery%20Plan%20Amendment.pdf
Little amphianthus Black-spored quillwort Mat-forming quillwort | Amphianthus pusillus Isoetes melanospora Isoetes tegetiformans | T E E | AL, GA, SC GA, SC GA | Recovery Plan for Three Granite Outcrop Plant Species ³ | https://ecos.fws.gov/docs/recovery_plan/Granite_outcrop_plants_Recovery%20Plan%20Amendment.pdf | Donald W. Imm, Ph.D., cell: 850-532-2046, office: 706-208-7501, fax: 706-613-6059, Donald_imm@fws.gov | Georgia Ecological Services Field Office, 355 East Hancock Avenue, Room 320 Box 7, Athens, GA 30601.
Purple bankclimber Shinyrayed pocketbook Gulf moccasinshell Oval pigtoe | Elliptoideus sloatianus Lampsilis subangulata Medionidus penicillatus Pleurobema pyriforme | T E E E | AL, FL, GA AL, FL, GA AL, FL, GA AL, FL, GA | Recovery Plan for Endangered Fat Threeridge, Shinyrayed Pocketbook, Gulf Moccasinshell, Oval Pigtoe and Threatened Chipola Slabshell, and Purple bankclimber ³ | https://ecos.fws.gov/docs/recovery_plan/ACF%204%20Mussels%20RP%20Amendment.pdf | Catherine T. Phillips, Ph.D., 850-769-0552, Catherine_phillips@fws.gov | Panama City Field Office, 1601 Balboa Avenue, Panama City, FL 32405.
Cave crayfish | Cambarus aculabrum | E | AR, MO | Recovery Plan for the Cave Crayfish (Cambarus aculabrum) ³ | https://ecos.fws.gov/docs/recovery_plan/Cambarus%20aculabrum_Recovery%20Plan%20Amendment.pdf | Melvin L. Tobin, 501-513-4473, melvin_tobin@fws.gov | Arkansas Ecological Services Field Office, 110 South Amity Road, Suite 300, Conway, AR 72032.
Etonia rosemary Florida salt marsh vole | Conradina etonia Microtus pennsylvanicus dukecampbelli | E E | FL FL | Recovery Plan for Etonia Rosemary (Conradina etonia) ³ Recovery Plan for the Florida Salt Marsh Vole (Microtus pennsylvanicus dukecampbelli) ³ | https://ecos.fws.gov/docs/recovery_plan/Conradina%20etonia_Recovery%20Plan%20Amendment.pdf https://ecos.fws.gov/docs/recovery_plan/Florida%20Salt%20Marsh%20Vole%20Recovery%20Plan%20Amendement.pdf | Jay B. Herrington, 904-731-3191, jay_herrington@fws.gov | Northeast Florida Ecological Services Field Office, 7915 Baymeadows Way, Suite 200, Jacksonville, FL 32256.
Anastasia Island beach mouse | Peromyscus polionotus phasma | E | FL | Recovery Plan for the Anastasia Island Beach Mouse and Southeastern Beach Mouse ³ | https://ecos.fws.gov/docs/recovery_plan/Anastasia%20Island%20Beach%20Mouse%20Recovery%20Plan%20Amendement.pdf
Schaus' swallowtail butterfly | Papilio aristodemus ponceanus | E | FL | South Florida Multi-Species Recovery Plan ³ | https://ecos.fws.gov/docs/recovery_plan/Schaus_%20Recovery%20Plan%20Amendment.pdf | Roxanna Hinzman, 772-469-4309, roxanna_hinzman@fws.gov | South Florida Ecological Services Field Office, 1339 20th Street, Vero Beach, FL 32960.
Key Largo cotton mouse | Peromyscus gossypinus allapaticola | E | FL |  | https://ecos.fws.gov/docs/recovery_plan/Key%20Largo%20Cotton%20Mouse%20Recovery%20Plan%20Amendment.pdf
Key Largo woodrat | Neotoma floridana smalli | E | FL |  | https://ecos.fws.gov/docs/recovery_plan/Key%20Largo%20Wood%20Rat%20Recovery%20Plan%20Amendment.pdf
Tar River spinymussel | Elliptio steinstansana | E | NC | Tar River Spinymussel Recovery Plan ³ | https://ecos.fws.gov/docs/recovery_plan/TarRiverSpinymussel_Recovery%20Plan%20Amendment.pdf | Pete Benjamin, 919-856-4520, pete_benjamin@fws.gov | Raleigh Ecological Services Field Office, 551F Pylon Drive, Raleigh, NC 27606.
Royal marstonia | Pyrgulopsis ogmorhaphe | E | TN | Recovery Plan for Royal Snail (Pyrgulopsis ogmorhaphe) ³ | https://ecos.fws.gov/docs/recovery_plan/Royal%20Snail_Recovery%20Plan%20Amendment.pdf | Lee Andrews, 502-695-0468, lee_andrews@fws.gov | Kentucky Ecological Services Field Station, 330 West Broadway, Suite 265, Frankfort, KY 40601.
Yellow-shouldered blackbird | Agelaius xanthomus | E | Puerto Rico | Recovery Plan for the Yellow-Shouldered Blackbird (Agelaius xanthomus) ³ | https://ecos.fws.gov/docs/recovery_plan/Yellow-shouldered%20blackbird%20Recovery%20Plan%20Amendment.pdf | Edwin E. Muñiz, 787-851-7297, edwin_muniz@fws.gov | Caribbean Ecological Services Field Office, P.O. Box 1600, Rio Grande, PR 00745.
Pelos del diablo | Aristida portoricensis | E | Puerto Rico | Aristida portoricensis (Pelos del diablo) Recovery Plan ³ | https://ecos.fws.gov/docs/recovery_plan/Aristida_portoricensis_Recovery_Plan_Amendment_3.pdf
No common name No common name No common name | Aristida chaseae Lyonia truncata var. proctorii Vernonia proctorii | E E E | Puerto Rico Puerto Rico Puerto Rico | Sierra Bermeja Plants Aristida chaseae, Lyonia truncata var. proctorii, and Vernonia proctorii Recovery Plan ³ | https://ecos.fws.gov/docs/recovery_plan/A.chaseae_L.Truncata_V.proctorii_Recovery_Plan_Amendment_2.pdf
No common name | Cranichis ricartii | E | Puerto Rico, Cuba, Dominican Republic, French West Indies (Guadeloupe) | Lepanthes eltoroensis and Cranichis ricartii Recovery Plan ³ | https://ecos.fws.gov/docs/recovery_plan/Cranichis_ricartii_Recovery%20Plan%20Amendment.pdf
Higuero de Sierra | Crescentia portoricensis | E | Puerto Rico | Crescentia portoricensis Recovery Plan ³ | https://ecos.fws.gov/docs/recovery_plan/Crescentia%20portoricensis_Recovery%20Plan%20Amendment.pdf
St. Thomas prickly-ash | Zanthoxylum thomasianum | E | Puerto Rico, Virgin Islands | St. Thomas Prickly-ash Recovery Plan ³ | https://ecos.fws.gov/docs/recovery_plan/Z.%20thomasianum_Recovery%20Plan%20Amendment.pdf
¹ E = endangered; T = threatened.
² Denotes a full recovery plan revision in the “Recovery Plan Name” column.
³ Denotes a recovery plan amendment in the “Recovery Plan Name” column.

How do I ask questions or provide information?

For any species listed above, please submit your questions, comments, and materials to the appropriate contact in the table above. Individuals who are hearing impaired or speech impaired may call the Federal Relay Service at 800-877-8339 for TTY assistance.

Request for Public Comments

We request written comments on the draft recovery plan modifications. We will consider all comments we receive by the date specified in DATES prior to final approval of the plans.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533(f)).

Dated: May 20, 2019.
Margaret E. Everson,
Principal Deputy Director, U.S. Fish and Wildlife Service, Exercising the Authority of the Director, U.S. Fish and Wildlife Service.

[FR Doc. 2019-13713 Filed 6-26-19; 8:45 am]

BILLING CODE 4333-15-P